DEPARTMENT OF COMMERCE

Foreign-Trade Zones Board

Foreign-Trade Zone 214—Lenoir County, North Carolina Site Renumbering Notice

Foreign-Trade Zone 214 was approved by the Foreign-Trade Zones Board on May 7, 1996 (Board Order 815), and expanded on August 14, 2003 (Board Order 1281) and November 2, 2007 (Board Order 1531).

FTZ 214 currently consists of 3 “sites” totaling 1,250 acres in the Lenoir County area. The current update does not alter the physical boundaries that have previously been approved, but instead involves an administrative renumbering that separates certain non-contiguous sites for record-keeping purposes.

Under this revision, the site list for FTZ 214 will be as follows: Site 1 (1,131 acres)—within the Kinston Regional Jetport complex, Lenoir County; Site 2 (35 acres)—located at 1114 Kingsboro Road, Rocky Mount, Edgecombe County; Site 3 (56 acres)—located at 400 English Road, Rocky Mount, Nash County; and, Site 4 (28 acres)—located at 1201 Thorpe Road, Rocky Mount, Nash County.

For further information, contact Maureen Hinman at maureen.hinman@trade.gov or (202) 482-0627.

Dated: December 1, 2010.
Andrew McGilvray,
Executive Secretary.

[FR Doc. 2010-31107 Filed 12-9-10; 8:45 am]

BILLING CODE P